SMALL BUSINESS ADMINISTRATION

[Disaster Declaration #17143 and #17144; NEW JERSEY Disaster Number NJ-00062]

Presidential Declaration Amendment of a Major Disaster for the State of New Jersey

AGENCY: U.S. Small Business Administration.

ACTION: Amendment 1.

SUMMARY: This is an amendment of the Presidential declaration of a major disaster for the State of New Jersey (FEMA-4614-DR), dated 09/05/2021.

Incident: Remnants of Hurricane Ida.

Incident Period: 09/01/2021 through 09/03/2021.

DATES: Issued on 09/10/2021.

Physical Loan Application Deadline Date: 11/04/2021.

Economic Injury (EIDL) Loan Application Deadline Date: 06/06/2022.

ADDRESSES: Submit completed loan applications to: U.S. Small Business Administration, Processing and Disbursement Center, 14925 Kingsport Road, Fort Worth, TX 76155.

FOR FURTHER INFORMATION CONTACT: A. Escobar, Office of Disaster Assistance, U.S. Small Business Administration, 409 3rd Street SW, Suite 6050, Washington, DC 20416, (202) 205-6734.

SUPPLEMENTARY INFORMATION: The notice of the President's major disaster declaration for the State of New Jersey, dated 09/05/2021, is hereby amended to include the following areas as adversely affected by the disaster:

Primary Counties (Physical Damage and Economic Injury Loans): Essex, Hudson, Mercer, Union.

Contiguous Counties (Economic Injury Loans Only):

New Jersey: Burlington.

All other information in the original declaration remains unchanged.

(Catalog of Federal Domestic Assistance Number 59008)

Barbara Carson,
Acting Associate Administrator for Disaster Assistance.

[FR Doc. 2021-19993 Filed 9-15-21; 8:45 am]

BILLING CODE 8026-03-P